DEPARTMENT OF AGRICULTURE

Office of the Secretary

7 CFR Part 20

RIN 0551-AA70

Export Sales Reporting Requirements

AGENCY: Office of the Secretary, USDA.

ACTION: Proposed rule, withdrawal.

SUMMARY: A proposed rule published in the Federal Register on March 8, 2012, proposing requirements to add reporting for pork (fresh, chilled, and frozen box/primal cuts) and distillers dried grain (DDG) to the Export Sales Reporting Requirements, is being withdrawn. The Foreign Agricultural Service (FAS) is currently awaiting approval for publication from the Office of Management and Budget.

DATES: As of March 22, 2012, the proposed rule published March 8, 2012 (77 FR 13990), is withdrawn.

FOR FURTHER INFORMATION CONTACT: Contact Peter W. Burr, Branch Chief, Export Sales Reporting Branch, Import Policies and Export Reporting Division, Office of Trade Programs, Foreign Agricultural Service, 1400 Independence Avenue SW., Washington, DC 20250-1021, STOP 1021; or by email at Pete.Burr@fas.usda.gov; or by telephone at (202) 720-3274; or by fax (202) 720-0876.

SUPPLEMENTARY INFORMATION:

Background

On March 8, 2012, a proposed rule was published in the Federal Register establishing new reporting requirements for pork (fresh, chilled, and frozen box/primal cuts) and distillers dried grain (DDG) to the Export Sales Reporting Requirements (77 FR 13990). Subsequent to publication, FAS ascertained that OMB clearance was not yet received, so the proposed rule needs to be withdrawn until such clearance is conveyed.

List of Subjects in 7 CFR Part 20

Agricultural commodities, Exports, Reporting and recordkeeping requirements.

The Withdrawal

Accordingly, pursuant to the authority delegated to me, the Proposed Rule, as published in the Federal Register of March 8, 2012 (77 FR 13990) (FR Doc. 2012-05486), is hereby withdrawn.

Authority: 7 U.S.C. 5712.

Dated: March 14, 2012.
Suzanne Heinen,
Acting Administrator, Foreign Agricultural Service.

[FR Doc. 2012-6820 Filed 3-21-12; 8:45 am]

BILLING CODE 3410-10-P